DEPARTMENT OF TRANSPORTATION

Federal Aviation Administration

14 CFR Part 71

[Docket No. FAA-2019-0799; Airspace Docket No. 19-AGL-13]

RIN 2120-AA66

Amendment of VHF Omnidirectional Range (VOR) Federal Airway V-71 and Area Navigation Route T-285 Due to the Decommissioning of the Winner, SD, VOR

AGENCY: Federal Aviation Administration (FAA), DOT.

ACTION: Final rule.

SUMMARY: This action amends VHF Omnidirectional Range (VOR) Federal airway V-71 and area navigation (RNAV) route T-285. The FAA is taking this action due to the planned decommissioning of the Winner, SD (ISD), VOR navigation aid (NAVAID). The Winner VOR is being decommissioned in support of the FAA's VOR Minimum Operational Network (MON) program.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the National Airspace System as necessary to preserve the safe and efficient flow of air traffic.

History

The FAA published a notice of proposed rulemaking for Docket No. FAA-2019-0799 in the Federal Register (84 FR 64795; November 25, 2019) amending VOR Federal airway V-71 and RNAV route T-285. Interested parties were invited to participate in this rulemaking effort by submitting written comments on the proposal. No comments were received.

VOR Federal airways are published in paragraph 6010(a) and RNAV T-routes are published in paragraph 6011 of FAA Order 7400.11D dated August 8, 2019, and effective September 15, 2019, which is incorporated by reference in 14 CFR 71.1. The ATS routes listed in this document would be subsequently published in the Order.

FAA Order 7400.11, Airspace Designations and Reporting Points, is published yearly and effective on September 15.

Differences From the NPRM

In the NPRM proposal section addressing the proposed amendment to RNAV route T-285 and in the regulatory text section describing T-285, the North Platte, NE, NAVAID was identified as a VORTAC, in error. The North Platte, NE, NAVAID is a VOR/Distance Measuring Equipment (VOR/DME) facility. This rule corrects that editorial error in the rule section and regulatory text.

Also in the NPRM proposal section, one of the proposed amendments to T-285 indicated that the Rapid City VORTAC “RAP” identifier would be added to the first line of the route description. This too was in error and should have stated the North Platte, NE, VOR/DME “LBF” identifier would be added. The regulatory text for the T-285 description correctly indicated “North Platte, NE (LBF)” in the first line of the description as was intended. This rule corrects that editorial error in the rule section.

These editorial corrections do not change the route's structure, operational use, or charted depiction, and are consistent with the proposed amendments to T-285.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying VOR Federal airway V-71 by removing an airway segment, and RNAV route T-285 by replacing the Winner VOR route point with a newly established waypoint. The planned decommissioning of the Winner, SD, VOR has made this action necessary. The air traffic service (ATS) route actions are described below.

V-71: V-71 extends between the Fighting Tiger, LA, VORTAC and the Williston, ND, VOR/DME NAVAIDs. The airway segment between the O'Neill, NE, VORTAC and the Pierre, SD, VORTAC is removed. The unaffected portions of the existing airway remain as charted.

T-285: T-285 extends between the North Platte, NE, VOR/DME and the Huron, SD, VORTAC NAVAIDs. The Winner, SD, VOR route point is replaced with the new LESNR waypoint established overhead the Winner VOR location. Additionally, the North Platte VOR/DME “LBF” identifier and Huron VORTAC “HON” identifier are added to the first line of the route description and the geographic coordinates of each route point are updated to be expressed in degrees, minutes, seconds, and hundredths of a second. The existing route remains as charted.

The NAVAID radials listed in the V-71 airway description below are unchanged and stated in True degrees.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending ATS routes V-71 and T-285 due to the planned decommissioning of the Winner, SD, VOR has no potential to cause any significant environmental impacts, and no extraordinary circumstances exist that warrant preparation of an environmental assessment. Therefore, this airspace action has been categorically excluded from further environmental impact review in accordance with the National Environmental Policy Act (NEPA) and its implementing regulations at 40 CFR parts 1500-1508, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-71 [Amended]

From Fighting Tiger, LA; Natchez, MS; Monroe, LA; El Dorado, AR; Hot Springs, AR; INT Hot Springs 358° and Harrison, AR, 176° radials; Harrison; Springfield, MO; Butler, MO; Topeka, KS; Pawnee City, NE; INT Pawnee City 334° and Lincoln, NE, 146° radials; Lincoln; Columbus, NE; to O'Neill, NE. From Pierre, SD; Bismarck, ND; to Williston, ND.

* * * * *

Paragraph 6011 United States Area Navigation Routes.

* * * * *

T-285 North Platte, NE (LBF) to Huron, SD (HON) [Amended]
North Platte, NE (LBF) | VOR/DME | (Lat. 41°02′55.34″ N, long. 100°44′49.55″ W)
Thedford, NE (TDD) | VOR/DME | (Lat. 41°58′53.99″ N, long. 100°43′08.55″ W)
MARSS, NE | Fix | (Lat. 42°27′48.92″ N, long. 100°36′15.32″ W)
Valentine, NE (VTN) | NDB | (Lat. 42°51′41.85″ N, long. 100°32′58.73″ W)
LKOTA, SD | WP | (Lat. 43°15′28.00″ N, long. 100°03′14.00″ W)
LESNR, SD | WP | (Lat. 43°29′16.06″ N, long. 99°45′41.55″ W)
Huron, SD (HON) | VORTAC | \(Lat. 44°26′24.30″ N, long. 98°18′39.89″ W)

* * * * *

Issued in Washington, DC, on February 12, 2020.
Mark Gauch,
Acting Manager, Rules and Regulations Group.

[FR Doc. 2020-03280 Filed 2-20-20; 8:45 am]

BILLING CODE 4910-13-P